DEPARTMENT OF ENERGY

Federal Energy Regulatory Commission

[Docket Nos. RM05-17-000; RM05-25-000]

Preventing Undue Discrimination and Preference in Transmission Service; Supplemental Notice of Technical Conferences

May 4, 2007.

On April 6, 2007, the Commission issued a notice scheduling staff technical conferences in the above-captioned proceeding. The Commission hereby supplements that notice with additional information regarding the technical conferences.

As stated in the April 6 notice, these technical conferences will review and discuss the “strawman” proposals regarding processes for transmission planning required by the Final Rule issued in this proceeding on February 16, 2007.¹ Each transmission provider will be responsible for presenting its “strawman” proposal on the day identified in the attached schedule. To the extent transmission providers have collaborated in the development of their “strawman” proposals, they may combine the presentation of those proposals. Following the presentations in each subregion, opportunity will be provided for comment and input from stakeholders and other interested parties. All aspects of a transmission provider's “strawman” proposal will be open for discussion.

¹ Preventing Undue Discrimination and Preference in Transmission Service, Order No. 890, 72 FR 12266 (March 15, 2007), FERC Stats. & Regs. ¶ 31,241 at P 443 (2007), reh'g pending.

Commission staff is in the process of identifying panelists to represent transmission providers and interested parties at each technical conference. Please contact the staff identified below if you are interested in participating as a panelist.² Once panelists have been identified, a further notice with a more detailed agenda for each conference will be issued. In the event a transmission provider or interested party is uncertain as to which technical conference is relevant, such persons should contact staff in advance to discuss the matter.

² A/V equipment will be available for panelists wishing to use PowerPoint or similar presentations.

For further information about these conferences, please contact:

W. Mason Emnett, Office of the General Counsel—Energy Markets, Federal Energy Regulatory Commission, 888 First Street, NE., Washington, DC 20426, (202) 502-6540, Mason.Emnett@ferc.gov.

Daniel Hedberg, Office of Energy Markets and Reliability, Federal Energy Regulatory Commission, 888 First Street, NE., Washington, DC 20426, (202) 502-6243, Daniel.Hedberg@ferc.gov.

Kimberly D. Bose,
Secretary.

[FR Doc. E7-8973 Filed 5-9-07; 8:45 am]

BILLING CODE 6717-01-P